DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

WCTU Railway Company

[Waiver Petition Docket Number FRA-2008-0106]

The WCTU Railway Company (WCTU), as a subsidiary of Railserve Inc. having its office located in Atlanta, Georgia, has petitioned FRA for a waiver of compliance from 49 CFR Part 223, Safety Glazing Standards for one locomotive, specifically locomotive number WCTU 1001. Locomotive WCTU 1001 is an EMD Switcher-Model SW1, built in 1946. The existing glazing is an ASI laminated safety glass, and is currently in good condition. WCTU, which is located in White City, Oregon, operates on approximately 20 miles of track and serves approximately 12 small rail shippers around White City, OR.

WCTU interchanges with the Central Oregon & Pacific Railroad Company. The records indicate that there have been no reported incidents of vandalism or any other incidents that involved WCTU 1001. WTCU operates over 20 miles of track at a speed not exceeding 10 miles per hour. To install FRA Type I or Type II safety glazing would impose an extreme financial burden to this railroad.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0106) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on December 1, 2008.
Grady C. Cothen, Jr.,
Deputy Associate Administrator for Safety Standards and Program Development.

[FR Doc. E8-28886 Filed 12-4-08; 8:45 am]

BILLING CODE 4910-06-P